DEPARTMENT OF DEFENSE

Office of the Secretary

[Docket ID DoD-2022-OS-0123]

Privacy Act of 1974; System of Records

AGENCY: Defense Media Activity (DMA), Department of Defense (DoD).

ACTION: Notice of a new system of records.

SUMMARY: In accordance with the Privacy Act of 1974, the DMA is establishing a new system of records titled, “Defense Visual Information Distribution Service (DVIDS),” DPA-04. The system collects, ingests, stores, transmits, and organizes public affairs released DoD media in various content types. It improves data quality, automation, and linking of defense visual information across DoD for mission readiness and visual information records management.

DATES: This system of records is effective upon publication; however, comments on the Routine Uses will be accepted on or before December 14, 2022. The Routine Uses are effective at the close of the comment period.

ADDRESSES: You may submit comments, identified by docket number and title, by any of the following methods:

*Federal Rulemaking Portal: https://www.regulations.gov.

Follow the instructions for submitting comments.

*Mail: Department of Defense, Office of the Assistant to the Secretary of Defense for Privacy, Civil Liberties, and Transparency, Regulatory Directorate, 4800 Mark Center Drive, Mailbox #24 Suite 08D09, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Gail Jones, Defense Media Activity, Privacy Officer, 6700 Taylor Avenue, Fort Meade, MD 20755-2253, or by phone at (301) 222-6040.

SUPPLEMENTARY INFORMATION:

I. Background

The DVIDS system of record is a state-of-the-art, 24/7 operation owned by DMA that provides timely, accurate and reliable connection between the media around the world and the military serving at home and abroad. DVIDS supports media organizations to access U.S. service members and commanders deployed in support of military operations worldwide. The system enables media outlets to receive immediate, first-hand information and interviews with commanders and subject matter experts directly involved with fast-breaking news. The DVIDS System is the system that holds the DoD archive that is then submitted to the National Archives. The DVIDS is authorized under DoDD 5105.74, “Defense Media Activity,” and DoDI 5040.02, “Visual Information.” The information collected in the process of a media request or registration form is not shared with any outside private organizations and is shared with other Government agencies if it is necessary to respond to the inquiry or otherwise by law. The information collected is used to validate registered users and DoD approved media content submitters as well as to deliver routine requested content or information.

DoD SORNs have been published in the Federal Register and are available from the address in FOR FURTHER INFORMATION CONTACT or at the Office of the Assistant to the Secretary of Defense for Privacy, Civil Liberties, and Transparency (OATSD(PCLT)) website at https://dpcld.defense.gov/privacy.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, OATSD(PCLT) has provided a report of this system of records to the OMB and to Congress.

Dated: November 7, 2022.
Aaron T. Siegel,
Alternate OSD Federal Register Liaison Officer, Department of Defense.

SYSTEM NAME AND NUMBER:

Defense Visual Information Distribution Service (DVIDS), DPA 04.

SECURITY CLASSIFICATION:

Unclassified.

SYSTEM LOCATION:

3845 Pleasantdale Road, Atlanta, GA 30340-4205.

SYSTEM MANAGER(S):

Defense Media Activity (DMA) DVIDS Program Manager, 3845 Pleasantdale Road Atlanta, GA 30340-4205, (678) 421-6776.

AUTHORITY FOR MAINTENANCE OF THE SYSTEM:

10 U.S.C. 113, Secretary of Defense; DoDI 5105.74, Defense Media Activity; and DoDI 5040.02, Visual Information.

PURPOSE(S) OF THE SYSTEM:

The DVIDS:

A. Serves as an enterprise shared services for collecting, storing, and distributing visual information and public affairs information to the internal DoD audience.

B. Serves as an enterprise shared service for distribution to the media and public.

C. Improves data quality, automation, and linking of defense visual information across DoD for mission readiness and visual information records management.

D. Executes the DoD Joint Hometown News (JHN) program which provides leaders, managers and service members a capability to release news about service members' accomplishments to their hometown media entities.

E. Provides a shared service to comply with program requirements, and applicable laws and regulations to preserve and maintain confidentiality of the registered users and DoD approved media content submitters personally identifiable information (PII).

F. Serves as the official system for the Visual Information Records Center Mission to Archive DoD content and transfer it to the National Archives in accordance with 44 U.S.C 3103, Transfer of records to records centers.

CATEGORIES OF INDIVIDUALS COVERED BY THE SYSTEM:

General public and Federal and contractor personnel from the DoD and other federal agencies receiving DVIDS services from the DMA. This includes DoD civilian and contractor personnel performing DVIDS oversight duties; military, civilian, and contractor personnel from the DoD and other federal agencies. Also, journalists who produce content available on DVIDS.

CATEGORIES OF RECORDS IN THE SYSTEM:

A. Non Government Registered users: Name; personal and work telephone numbers; personal and work email.

B. DoD Public Affairs, Visual Information, and Combat Camera approved media content submitters: Name; personal and work telephone numbers; personal and work email; position/title; grade/rank, and branch.

C. Attribution of Publicly Released Media Content such as images, video, news, audio, graphics, publications, podcasts and webcasts to the journalist (searchable by journalist's name in order to see all media content associated to a specific journalist).

Note: All content is approved and released by the DoD Public Affairs Officer prior to publication to the DVIDS website.

RECORD SOURCE CATEGORIES:

Information is obtained from the individual either in email, or web form online and then entered into DVIDS, or via direct entry electronically into DVIDS.

ROUTINE USES OF RECORDS MAINTAINED IN THE SYSTEM, INCLUDING CATEGORIES OF USERS AND THE PURPOSES OF SUCH USES:

In addition to those disclosures generally permitted under 5 U.S.C. 552a (b) of the Privacy Act of 1974, as amended, the records contained herein may specifically be disclosed outside the DoD as a routine use pursuant to 5 U.S.C. 552(b)(1) as follows:

A. To contractors, grantees, experts, consultants, students, and others performing or working on a contract, service, grant, cooperative agreement, or other assignment for the Federal Government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the System of Records; (2) the DoD determined as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State or local agency for the purpose of comparing to the agency's system of records or to non-Federal records, in coordination with an Office of Inspector General in conducting an audit, investigation, inspection, evaluation, or some other review as authorized by the Inspector General Act of 1987, as amended.

J. To such recipients and under such circumstances and procedures as are mandated by Federal statute or treaty.

K. To appropriate Federal, State, local, territorial, tribal, foreign, or international agencies for the purpose of counterintelligence activities authorized by U.S. law or Executive Order, or for the purpose of executing or enforcing laws designed to protect the national security or homeland security of the United States, including those relating to the sharing of records or information concerning terrorism, homeland security, or law enforcement.

L. To the news media and the public unless it is determined that release of the specific information in the context of a particular case would constitute an unwarranted invasion of personal privacy.

POLICIES AND PRACTICES FOR STORAGE OF RECORDS:

Electronic storage media. Electronic records may be stored in agency-owned cloud environments; or in vendor Cloud Service Offerings certified under the Federal Risk and Authorization Management Program (FedRAMP).

POLICIES AND PRACTICES FOR RETRIEVAL OF RECORDS:

Records may be retrieved by name.

POLICIES AND PRACTICES FOR RETENTION AND DISPOSAL OF RECORDS:

Temporary. Cut off after system is superseded by a new iteration, or is terminated, defunded, or when no longer needed for administrative, legal, audit, or other operational purposes. Destroy 5 years after cutoff.

ADMINISTRATIVE, TECHNICAL, AND PHYSICAL SAFEGUARDS:

Administrative: backups are secured off-site, encryption of backups, methods to ensure only authorized personnel have access to PII, periodic security audits, and regular monitoring of users' security practices. Physical: cipher locks, closed circuit TV, key cards, and security guards. Technical safeguards: Common Access Card, DoD public key infrastructure certificates, encryption of data at rest, encryption of data in transit, firewall, intrusion detection system, and role-based access control, used only for privileged (elevated roles).

RECORD ACCESS PROCEDURES:

Individuals seeking access to their records should address written requests to the Office of the Secretary of Defense/Joint Staff Freedom of Information Act Requester Service Center, 1155 Defense Pentagon, Washington, DC 20301-1155. For verification purposes, individuals should provide full name, current address, and sufficient details to permit locating pertinent records, and signature. Signed, written requests should contain the individual's full name, telephone number, street address, email address, and name and number of this system of records notice. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial agency determinations are published in 32 CFR part 310, or may be obtained from the system manger.

NOTIFICATION PROCEDURES:

Individuals seeking to determine whether information about themselves is contained in this system of records should follow the instructions for Record Access Procedures above.

EXEMPTIONS PROMULGATED FOR THE SYSTEM:

None

HISTORY:

N/A

[FR Doc. 2022-24646 Filed 11-10-22; 8:45 am]

BILLING CODE 5001-06-P